DEPARTMENT OF THE INTERIOR

National Park Service

Native American Graves Protection and Repatriation Review Committee Findings and Recommendations Regarding Cultural Items in the Possession of the Denver Art Museum

AGENCY: National Park Service, Interior.

ACTION: Notice.

After full and careful consideration of the information and statements submitted and presented by the Denver Art Museum and the Western Apache NAGPRA Working Group at the May 31-June 2, 2002, meeting of the Native American Graves Protection and Repatriation Review Committee, the review committee finds that this information is sufficient to establish by a preponderance of the evidence that the seven cultural items are sacred objects and objects of cultural patrimony that meet the definitions of “sacred objects” and “objects of cultural patrimony” under NAGPRA 25 U.S.C. 3001. It also finds that these cultural items are culturally affiliated with the constituent tribes of the Western Apache NAGPRA Working Group. The Western Apache NAGPRA Working Group is composed of the authorized representatives of the Fort McDowell Mohave-Apache Indian Community of the Fort McDowell Indian Reservation, Arizona, San Carlos Apache Tribe of the San Carlos Reservation, Arizona, the Tonto Apache Tribe of Arizona, the White Mountain Apache Tribe of the Fort Apache Reservation, Arizona, and the Yavapai-Apache Nation of the Camp Verde Indian Reservation, Arizona.

The seven cultural items are a Dilzini medicine cord and pouch, a Dilzini wooden doll, two caps, and three Dilzini Gaan masks.

The review committee recognizes that the Denver Art Museum engaged in good faith consultation with the Western Apache NAGPRA Working Group for several years. An impasse seemed to have developed in the consultation process. Officials of the Denver Art Museum felt that the information provided was not sufficient to meet the standard of NAGPRA and requested additional information. The Western Apache NAGPRA Working Group felt that the information it had provided was sufficient and that it was unable to provide additional sensitive religious information. The Western Apache NAGPRA Working Group requested the assistance of the review committee in resolving the dispute.

During its May 31-June 2, 2002, meeting, the review committee considered the written information provided by both parties. In addition, the review committee was able to question both parties and obtain additional information regarding the identity and cultural affiliation of the seven items.

The review committee concurs with the Denver Art Museum that sufficient evidence is available to support the following determinations of cultural affiliation:1.The Dilzini medicine cord and pouch (accession number 1936.216.1) is culturally affiliated with the White Mountain Apache Tribe of the Fort Apache Reservation, Arizona.2.The Dilzini wooden doll (accession number 1936.216.2) is culturally affiliated with the White Mountain Apache Tribe of the Fort Apache Reservation, Arizona.3.The cap (accession number 1946.215) is culturally affiliated with the San Carlos Apache Tribe of the San Carlos Reservation, Arizona.4.The Dilzini Gaan mask (accession number 1947.256) is culturally affiliated with the White Mountain Apache Tribe of the Fort Apache Reservation, Arizona.5.Dilzini Gaan Mask (accession number 1947.257) is culturally affiliated with the San Carlos Apache Tribe of the San Carlos Reservation, Arizona.6.The Dilzini Gaan mask (accession number 1947.258) is culturally affiliated with the White Mountain Apache Tribe of the Fort Apache Reservation, Arizona.

Oral testimony provided at the review committee meeting regarding the seventh item, a second cap (accession number 19417.1749), indicated that the symbols on the cap represent an Apache sacred site. Oral tradition provided at the meeting indicates that the cap was associated with a medicine man from Cibeque, AZ.

The review committee finds that the evidence that the two parties provided to the review committee in advance of the review committee meeting, along with additional information that they provided at the meeting, is sufficient to support a determination that the seven items are objects that are specific ceremonial items that are needed by traditional Native American religious leaders for the practice of traditional Native American religions by their present-day adherents. Mr. Levi DeHose and Mr. Carlyle Russell were identified as traditional Apache religious leaders responsible for the performance of specific healing ceremonies. The seven items were identified as being needed for the conduct of these specific healing ceremonies, and the items must be returned to their resting place in order to continue the healing process.

The review committee finds that the evidence that the two parties provided in advance of the review committee meeting, along with additional information that they provided at the meeting, is sufficient to support a determination that the seven items have ongoing historical, traditional, or cultural importance central to the Apache themselves, rather than property owned by an individual tribal member. Information provided at the meeting indicated that the continuing use of the seven items was necessary for the continuation of the healing process for present and future generations. The serious social problems and wide-scale suffering among the Western Apache were attributed to the alienation of these and other ceremonial items from their resting places. The return of these items to their resting places will be beneficial to the health of the Apache people.

The review committee also reaffirms the importance of ongoing, good faith consultation between the parties as the most effective means for finding repatriation solutions and precluding disputes.Based on these findings, the review committee recommends that the Denver Art Museum consider the oral testimony provided by the Western Apache NAGPRA Working Group, consult with the anthropological literature, re-evaluate the determination for repatriation, and inform the review committee of the museum’s findings within the next 90 days.

The Native American Graves Protection and Repatriation Act directs the Secretary of the Interior to establish and maintain an advisory committee composed of seven private citizens nominated by Indian tribes, Native Hawaiian organizations, and national museum organizations and scientific organizations (25 U.S.C. 3006). The responsibilities of the review committee include reviewing and making findings related to the identity or cultural affiliation of Native American human remains or other cultural items, or to the return of human remains or other cultural items; and facilitating the resolution of disputes among Indian tribes, Native Hawaiian organizations, or lineal descendants and Federal agencies or museums relating to the return of human remains and other cultural items.

This notice is published as part of the National Park Service’s administrative responsibilities under NAGPRA, 25 U.S.C. 3006 (g). These findings and recommendations do not necessarily represent the views of the National Park Service or the Secretary of the Interior. The National Park Service and the Secretary of the Interior have not taken a position on these matters.

Dated: July 16, 2002
Armand Minthorn
Chair, Native American Graves Protection and Repatriation Review Committee.

[FR Doc. 02-23128 Filed 9-11-02; 8:45 am]

BILLING CODE 4310-70-S